DEPARTMENT OF ENERGY

Federal Energy Regulatory Commission

Combined Notice of Filings #1

Take notice that the Commission received the following electric corporate filings:

Docket Numbers: EC22-15-000.

Applicants: RE Gaskell West LLC, RE Gaskell West 2 LLC, RE Gaskell West 3 LLC.

Description: Joint Application for Authorization Under Section 203 of the Federal Power Act of RE Gaskell West LLC, et al.

Filed Date: 11/12/21.

Accession Number: 20211112-5373.

Comment Date: 5 p.m. ET 12/3/21.

Take notice that the Commission received the following electric rate filings:

Docket Numbers: ER11-4423-003.

Applicants: Lockport Energy Associates, L.P.

Description: Notice of Non-Material Change in Status of Lockport Energy Associates, L.P.

Filed Date: 11/12/21.

Accession Number: 20211112-5387.

Comment Date: 5 p.m. ET 12/3/21.

Docket Numbers: ER20-378-002.

Applicants: Pacific Gas and Electric Company.

Description: Compliance filing: CCSF Calaveras Compliance Filing WDT SA 275 to be effective N/A.

Filed Date: 11/15/21.

Accession Number: 20211115-5145.

Comment Date: 5 p.m. ET 12/6/21.

Docket Numbers: ER22-335-000.

Applicants: Midcontinent Independent System Operator, Inc.

Description: § 205(d) Rate Filing: 2021-11-04_SA 3616 Entergy Louisiana-St. Jacques Solar 1st Rev GIA (J1076) to be effective 10/29/2021.

Filed Date: 11/4/21.

Accession Number: 20211104-5073.

Comment Date: 5 p.m. ET 11/26/21.

Docket Numbers: ER22-404-000.

Applicants: Midcontinent Independent System Operator, Inc.

Description: § 205(d) Rate Filing: 2021-11-12_Schedule 49 Cost Allocation Filing to be effective 2/1/2022.

Filed Date: 11/12/21.

Accession Number: 20211112-5327.

Comment Date: 5 p.m. ET 12/13/21.

Docket Numbers: ER22-405-000.

Applicants: Midcontinent Independent System Operator, Inc., Michigan Electric Transmission Company, LLC.

Description: § 205(d) Rate Filing: Midcontinent Independent System Operator, Inc. submits tariff filing per 35.13(a)(2)(iii): 2021-11-15_SA 3746 METC-Cereal City Solar E&P (J1430) to be effective 11/11/2021.

Filed Date: 11/15/21.

Accession Number: 20211115-5081.

Comment Date: 5 p.m. ET 12/6/21.

Docket Numbers: ER22-406-000.

Applicants: Midcontinent Independent System Operator, Inc.

Description: § 205(d) Rate Filing: 2021-11-15_SA 3739 NSP-Walleye Wind FSA (J569) to be effective 1/15/2022.

Filed Date: 11/15/21.

Accession Number: 20211115-5083.

Comment Date: 5 p.m. ET 12/6/21.

Docket Numbers: ER22-409-000.

Applicants: PJM Interconnection, L.L.C.

Description: § 205(d) Rate Filing: Original WMPA, Service Agreement No. 6230; Queue No. AG1-315 to be effective 10/18/2021.

Filed Date: 11/15/21.

Accession Number: 20211115-5149.

Comment Date: 5 p.m. ET 12/6/21.

Docket Numbers: ER22-410-000.

Applicants: PacifiCorp.

Description: § 205(d) Rate Filing: UAMPS Const Agmt Lehi North Substation to be effective 1/15/2022.

Filed Date: 11/15/21.

Accession Number: 20211115-5150.

Comment Date: 5 p.m. ET 12/6/21.

Docket Numbers: ER22-411-000.

Applicants: Southwest Power Pool, Inc.

Description: § 205(d) Rate Filing: Lincoln Electric System Formula Rate Revisions to be effective 1/1/2022.

Filed Date: 11/15/21.

Accession Number: 20211115-5195.

Comment Date: 5 p.m. ET 12/6/21.

Take notice that the Commission received the following public utility holding company filings:

Docket Numbers: PH22-1-000.

Applicants: EDF Renewables, Inc.

Description: EDF Renewables, Inc., submits FERC 65-B Notice of Change in Fact and Withdrawal of Waiver Notification.

Filed Date: 11/10/21.

Accession Number: 20211110-5267.

Comment Date: 5 p.m. ET 12/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2021.
Debbie-Anne A. Reese,
Deputy Secretary.

[FR Doc. 2021-25254 Filed 11-18-21; 8:45 am]

BILLING CODE 6717-01-P